NATIONAL ARCHIVES AND RECORDS ADMINISTRATION

Office of Government Information Services

[NARA-2018-033]

FOIA Advisory Committee; Solicitation for Committee Member Nominations

AGENCY: Office of Government Information Services (OGIS), National Archives and Records Administration.

ACTION: Notice.

SUMMARY: The National Archives and Records Administration (NARA) seeks member nominations for the Freedom of Information Act (FOIA) Advisory Committee (Committee).

DATES: We must receive nominations for Committee membership before 5:00 p.m. EDT on Friday, June 1, 2018.

ADDRESSES: Email nominations to OGIS at foia-advisory-committee@nara.gov, fax them to Amy Bennett's attention at 202-741-5769, or mail them to Amy Bennett; National Archives and Records Administration; Office of Government Information Services; 8601 Adelphi Road-OGIS; College Park, MD 20740-6001.

FOR FURTHER INFORMATION CONTACT: Amy Bennett by phone at 202-741-5782, by mail at National Archives and Records Administration; Office of Government Information Services; 8601 Adelphi Road-OGIS; College Park, MD 20740-6001, or by email at foia-advisory-committee@nara.gov.

SUPPLEMENTARY INFORMATION:

I. Background

The Freedom of Information Act (FOIA) Advisory Committee was established in accordance with the United States Second Open Government National Action Plan, released on December 5, 2013, and the directive in the Freedom of Information Act, 5 U.S.C. 552(h)(2)(C), that the Office of Government Information Services (OGIS) within the National Archives and Records Administration (NARA) “identify procedures and methods for improving compliance” with the Freedom of Information Act (FOIA). This Committee is governed by the provisions of the Federal Advisory Committee Act, as amended, Public Law 92-463, 86 Stat. 770 (1972); 5 U.S.C. App. and the Government in the Sunshine Act (GISA).

II. Charter and Membership Appointment Terms

NARA initially chartered the Committee on May 20, 2014, the Archivist renewed the Committee's charter in May 2016, and is expected to renew the charter in 2018. Member appointment terms run for two years, concurrent with the Committee charter.

III. Committee Membership

The Committee includes ten Government and ten non-Government representatives. We select Committee members so that the Committee membership includes the following range of representatives, at a minimum:

Government members: Three FOIA professionals from Cabinet-level Departments; four FOIA professionals from non-Cabinet agencies; one representative from the Department of Justice, Office of Information Policy; and one representative from OGIS.

Non-Governmental members: Three individuals representing the interests of non-governmental organizations that advocate on FOIA matters; two individuals representing the interests of FOIA requesters who qualify for the “all other” FOIA requester fee category; one individual representing the interests of requesters who qualify for the “news media” FOIA requester fee category; one individual representing the interests of requesters who qualify for the “commercial” FOIA requester fee category; one individual representing the interests of historians and history-related organizations; and one individual representing the interests of academia.

IV. Nomination Information

All nominations for Committee membership should provide the following information:

1. Your name, title, and relevant contact information (including telephone, fax, and email address);

2. The nominee's name, title, and relevant contact information, and the Committee position for which you are submitting the nominee;

3. A short paragraph or biography about the nominee (fewer than 250 words), summarizing their resumé or otherwise highlighting the contributions the nominee would bring to the Committee; and

4. The nominee's resumé or curriculum vitae.

OGIS will notify nominees selected for appointment to the Committee by the Archivist in the summer of 2018.

Patrice Murray,
Alternate Committee Management Officer.

[FR Doc. 2018-07798 Filed 4-13-18; 8:45 am]

BILLING CODE 7515-01-P